NUCLEAR REGULATORY COMMISSION

[Docket No. 030-05982]

Notice of Availability of Environmental Assessment and Finding of No Significant Impact for License Amendment for Safety Light Corporation in Bloomsburg, PA

AGENCY: Nuclear Regulatory Commission.

ACTION: Notice of availability.

FOR FURTHER INFORMATION CONTACT: Robert Prince, Decommissioning Branch, Division of Nuclear Materials Safety, Region I, 475 Allendale Road, King of Prussia, Pennsylvania, 19406, telephone (610) 337-5376, fax (610) 337-5269; or by e-mail: RJP4@nrc.gov.

SUPPLEMENTARY INFORMATION:

I. Introduction

The Nuclear Regulatory Commission (NRC) is considering the issuance of a license amendment to Safety Light Corporation (SLC) to renew Materials License No. 37-00030-02, to authorize characterization and decommissioning under specified conditions at its facility in Bloomsburg, Pennsylvania. NRC has prepared an Environmental Assessment (EA) in support of this action in accordance with the requirements of 10 CFR Part 51. The renewed license would also grant SLC exemptions from the financial assurance requirements for decommissioning contained in 10 CFR 30.32 and 30.35. Based on the EA, the NRC has concluded that a Finding of No Significant Impact (FONSI) is appropriate.

II. EA Summary

The purpose of the proposed action is to renew NRC Materials License No. 37-00030-02 for characterization and other decommissioning activities through December 2007, and pursuant to 10 CFR 30.11, grant SLC exemptions from the financial assurance requirements for decommissioning contained in 10 CFR 30.32 and 30.35. The renewed license will require that the SLC submit work plans and health and safety plans to the NRC for approval prior to beginning other decommissioning activities at the Bloomsburg, Pennsylvania facility. The renewed license will also require that SLC develop a plan for the orderly shutdown of licensed activities and make prescribed monthly deposits into the decommissioning trust fund during the license renewal period in accordance with the Settlement Agreement between NRC, SLC and Pennsylvania Department of Environmental Protection, as approved by the Atomic Safety and Licensing Board on June 29, 2005.

The NRC staff has prepared an EA in support of the license amendment. The licensee does not have sufficient financial assurance to complete remediation activities. The issuance of this amendment covers existing material already present on the site from past operations and does not authorize an increase in the amount of material authorized by the license. No changes are being made to the type or amount of effluents that may be released from the site, and no significant increase in public radiation exposure is expected. By renewing the license, NRC can also require the completion of certain actions to provide for an orderly cessation of licensed activities, and require SLC to cooperate with the Environmental Protection Agency in its evaluation and conduct of future remediation activities. The actions to be taken by the licensee are also in the public interest, and the exemption of specific financial assurance requirements until December 31, 2007 will not endanger life or property or common defense and security.

Therefore, the NRC staff concluded that the action to renew License No. 37-00030-02 and grant SLC exemptions from the financial assurance requirements for decommissioning complies with 10 CFR Part 20 and 10 CFR 30.11.

III. Finding of No Significant Impact

The staff has prepared the EA (summarized above) in support of the license amendment to renew the license and grant the exemptions. On the basis of the EA, the NRC has concluded that the environmental impacts from the action are expected to be insignificant and has determined not to prepare an environmental impact statement for the action. Accordingly, a FONSI is appropriate.

IV. Further Information

Documents related to this action, including the application for the license amendment and supporting documentation, are available electronically at the NRC's Electronic Reading Room at http://www.nrc.gov/reading-rm/adams.html. From this site, you can access the NRC's Agencywide Document Access and Management System (ADAMS), which provides text and image files of NRC's public documents. The ADAMS accession numbers for the documents related to this Notice are the Environmental Assessment (ML052630022 and the SLC renewal request dated April 24, 2004 (ML041310318). Persons who do not have access to ADAMS or who encounter problems in accessing the documents located in ADAMS, should contact the NRC PDR Reference staff by telephone at (800) 397-4209 or (301) 415-4737, or by e-mail to pdr@nrc.gov.

Documents related to operations conducted under this license not specifically referenced in this Notice may not be electronically available and/or may not be publicly available. Persons who have an interest in reviewing these documents should submit a request to NRC under the Freedom of Information Act (FOIA). Instructions for submitting a FOIA request can be found on the NRC's Web site at http://www.nrc.gov/reading-rm/foia/foia-privacy.html.

Dated at King of Prussia, Pennsylvania, this 20th day of September, 2005.
For the Nuclear Regulatory Commission.
Marie Miller,
Chief, Decommissioning Branch, Division of Nuclear Materials Safety, Region I.

[FR Doc. E5-5177 Filed 9-26-05; 8:45 am]

BILLING CODE 7590-01-P